COMMISSION ON CIVIL RIGHTS

Agenda and Notice of Public Meeting of the New Mexico Advisory Committee

Notice is hereby given, pursuant to the provisions of the rules and regulations of the U.S. Commission on Civil Rights, that a planning meeting with briefing of the New Mexico State Advisory Committee will convene at 8:30 a.m. (MDT) and adjourn at 8:30 p.m. (MDT), Friday, April 30, 2004. The purpose of the community forum will be to obtain current information and perspectives on the status of civil rights for Native Americans in Farmington, New Mexico. There will be formal presentations from elected officials, Navajo and community leaders, law enforcement, education and health administrators. Also, an open session will be conducted.

Persons desiring additional information, or planning a presentation to the Committee, should contact John Dulles, Director of the Rocky Mountain Regional Office, (303) 866-1040 (TDD 303-866-1049). Hearing impaired persons who will attend the meeting and require the services of a sign language interpreter should contact the Regional Office at least ten (10) working days before the scheduled date of the meeting.

The meeting will be conducted pursuant to the provisions of the rules and regulations of the Commission.

Dated at Washington, DC, March 22, 2004.
Ivy L. Davis,
Chief, Regional Programs Coordination Unit.

[FR Doc. 04-7455 Filed 4-1-04; 8:45 am]

BILLING CODE 6335-01-P